DEPARTMENT OF DEFENSE

Department of the Army; Corps of Engineers

Intent To Prepare a Draft Supplemental Final Environmental Impact Statement, Portland District, Columbia and Lower Willamette Rivers Federal Navigation Channel Improvements, Oregon and Washington

AGENCY: Department of the Army, U.S. Army Corps of Engineers, DoD.

ACTION: Notice of intent.

SUMMARY: The U.S. Army Corps of Engineers (Corps), Portland District, intends to prepare a supplement to the Final Integrated Feasibility Report/Environmental Impact Statement (IFR/EIS Supplement) for the Columbia and Lower Willamette Rivers Federal Navigation Channel, Oregon and Washington. The final IFR/EIS, which was published in 1999, identified a plan of action to deepen the Columbia and Lower Willamette Federal navigation project by 3 feet, and construct ecosystem restoration features. This supplement will address new information that has been developed since the 1999 report, including information that resulted from the Endangered Species Act consultation with National Marine Fisheries Service and US Fish and Wildlife Service and for water quality certification.

The IFR/EIS is being supplemented to add new information that has been generated since the final report in 1999. It will include information from the recently transmitted biological assessment prepared by the Corps for the National Marine Fisheries Service and US Fish and Wildlife Service. Several additional ecosystem restoration features are proposed to be implemented to benefit the recovery of listed threatened and endangered fish. As a result of these actions the lower river disposal plan will be re-evaluated to shift from ocean disposal at the Deep Water disposal site to creation of ecosystem restoration features in the estuary. The construction volumes will also be updated utilizing December 2001 and January 2002 hydrographic surveys. Other items will be updated from a cost perspective due to new information collected since 1999, including a reduction in rock excavation and utility relocations. Project economics will be re-examined to evaluate the sensitivity of the fleet and commodity forecasts in the EIS When the costs and benefits are re-examined the benefit-to-cost ratio will be reevaluated.

The alternatives under consideration are the same as those measures evaluated in the 1999 IFR/EIs. Elements of the plan of action may include dredging of sands, rock removal by mechanical means as well as blasting, disposal of material at in-water, shoreline and upland disposal sites, and ecosystem restoration features. Information updates will include the disposal plan in the lower river, and new ecosystem restoration proposals. This plan will shift disposal material from ocean disposal at the Deep Water disposal site to creation of the restoration features in the estuary.

FOR FURTHER INFORMATION CONTACT: Please contact Mr. Robert E. Willis, Chief, Environmental Resources Branch, US Army Corps of Engineers, Portland District, CENWP-PM-E, PO Box 2946, Portland, OR 92708-2946, phone (503) 808-4760.

SUPPLEMENTARY INFORMATION: The proposed action is being considered under the authority of resolution of the House of Representatives, Committee on Public Works and Transportation, adopted August 3, 1989. The action ultimately may involve some measures similar to those selected in 1999. The Supplement will identify a plan of action which (1) evaluates the specific engineering, environmental, and economic effects of proposed alternatives for improving the authorized channel as compared to the without-project condition (no action alternative); (2) identifies a plan which maximizes National Economic Development (NED) benefits while protecting environmental resources in accordance with Federal laws and statutes; (3) recommends a plan for construction if economic, environmental, and engineering justification is met and the plan is supported by the sponsor. Alternatives being considered to the proposed action are the same as those analyzed in the 1999 report. The Supplement will consider information gained from the expert panel held during the consultation process and data collection for smelt and sturgeon conducted in conjunction with the Federal and State resource agencies. Based on preliminary consideration to date, the following have been some of the significant issues requiring analysis in the Supplement: smelt, sturgeon, Dungeness crab concerns, wetlands and mitigation required due to wetland losses. The Corps welcomes input to the Supplement from affected Federal, State and local agencies, Indian tribes, and other interested organizations and parties. The Environmental Protection Agency, Region 10, was a cooperating agency to the IFR/EIs, and will also act as a cooperating agency in the Supplement.

The normal range of environmental review and consultation shall apply to the proposed action.

Scoping was completed in 1994. The Corps plans to conduct a series of public meetings after release of the draft Supplement. Meeting times will be announced later. The draft IFR/EIS Supplement is tentatively scheduled for release to the public and agencies for review in May 2002.

Randall J. Butler,
Colonel, EN, Commanding.

[FR Doc. 02-6583 Filed 3-18-02; 8:45 am]

BILLING CODE 3710-AR-M